DEPARTMENT OF EDUCATION

Applications for New Awards; Title III, Part F, Alaska Native and Native Hawaiian-Serving Institutions (ANNH) Program

AGENCY: Office of Postsecondary Education, Department of Education.

ACTION: Notice.

Overview Information: Title III, Part F, Alaska Native-Serving and Native Hawaiian-Serving Institutions (ANNH) ProgramNotice inviting applications for new awards for fiscal year (FY) 2014.

Catalog of Federal Domestic Assistance (CFDA) Numbers: 84.031R and 84.031V.

Dates:

Applications Available: April 14, 2014.

Deadline for Transmittal of Applications: June 2, 2014.

Deadline for Intergovernmental Review: August 1, 2014.

Full Text of Announcement

I. Funding Opportunity Description

Purpose of Program: The Title III, Part F, ANNH Program is authorized under Section 371 of the Higher Education Act of 1965, as amended (HEA), to provide grants to eligible institutions of higher education (IHEs) to enable them to improve and expand their capacity to serve Alaska Natives and Native Hawaiians. IHEs may use these grants to plan, develop, or implement activities that promise to strengthen the institution.

Priorities: This notice contains two competitive preference priorities and two invitational priorities. The competitive preference priorities are from the notice of final supplemental priorities and definitions for discretionary grant programs, published in the Federal Register on December 15, 2010 (75 FR 78486), and corrected on May 12, 2011 (76 FR 27637) (the Supplemental Priorities).

Competitive Preference Priorities: For FY 2014 and any subsequent year in which we make awards from the list of unfunded applicants from the competition, these priorities are competitive preference priorities. Under 34 CFR 75.105(c)(2)(i), we award up to two points for each competitive preference priority. The maximum competitive preference points an application can receive under this competition is four depending on how well the application meets these priorities.

These priorities are:

Competitive Preference Priority 1—Increasing Postsecondary Success.

Projects that are designed to address the following priority area: Increasing the number and proportion of high-need students (as defined in this notice) who persist in and complete college or other postsecondary education and training.

Competitive Preference Priority 2—Improving Productivity.

Projects that are designed to significantly increase efficiency in the use of time, staff, money, or other resources while improving student learning or other educational outcomes (i.e., outcome per unit of resource). Such projects may include innovative and sustainable uses of technology, modification of school schedules and teacher compensation systems, use of open educational resources (as defined in this notice), or other strategies.

Note: The types of projects identified in Competitive Preference Priority 2 are suggestions for ways to improve productivity. The Department recognizes that some of these examples, such as modification of teacher compensation systems, may not be relevant to this program. Accordingly, applicants should consider responding to this competitive preference priority in a way that improves productivity in a relevant higher education context.

Invitational Priorities: For FY 2014 and any subsequent year in which we make awards from the list of unfunded applicants from the competition, these priorities are invitational priorities. Under 34 75.105(c)(1) we do not give an application that meets these invitational priorities a competitive or absolute preference over other applications.

These priorities are:

Invitational Priority 1—Support Activities That Strengthen Native Language Preservation and Revitalization.

Support activities that strengthen Native language preservation and revitalization at the IHE.

Invitational Priority 2—Promoting Science, Technology, Engineering and Mathematics (STEM) Education.

Projects that are designed to address the following priority area: providing students with increased access to rigorous and engaging coursework in STEM.

Note: There are no additional points awarded for invitational priorities.

Definitions: The following definitions are from the Supplemental Priorities and apply to the priorities in this notice:

High-need children and high-need students means children and students at risk of educational failure, such as children and students who are living in poverty, who are English learners, who are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, who are migrant, or who have disabilities.

Open educational resources (OER) means teaching, learning, and research resources that reside in the public domain or have been released under an intellectual property license that permits their free use or repurposing by others.

Program Authority: 20 U.S.C. 1067q.

Applicable Regulations: (a) The Education Department General Administrative Regulations (EDGAR) in 34 CFR parts 74, 75, 77, 79, 82, 84, 85, 86, 98, and 99. (b) The regulations for this program in 34 CFR part 607. (c) The Supplemental Priorities.

Note: The regulations in 34 CFR part 79 apply to all applicants except Federally recognized Indian tribes.

Note: The regulations in 34 CFR part 86 apply to IHEs only.

Note: The eligibility criteria for this competition, including the enrollment of needy students and expenditure provisions, are set forth in section III. 1.

Eligible Applicants of this notice. The tie-breaker provisions are set in section V. 3. Tie-breaker for Grants of this notice.

II. Award Information

Type of Award: Individual development grants, cooperative arrangement grants, and renovation grants.

Estimated Available Funds: $17,020,470.

Contingent upon the availability of funds and the quality of applications, we may make additional awards in FY 2015 from the list of unfunded applicants from this competition.

Estimated Range of Awards: $200,000—$2,000,000 per year.

Estimated Average Size of Awards:

Individual Development grants: $650,000 per year.

Cooperative Arrangement grants: $850,000 per year.

Renovation grants: $1,500,000 per year.

Maximum Awards:

Individual Development grants: $800,000 per year.

Cooperative Arrangement grants: $900,000 per year.

Renovation grants: $2,000,000 per year.

We will reject any application that proposes a budget exceeding the maximum award amount applicable to the type of grant sought (i.e., $800,000, $900,000, or $2,000,000) for a single budget period of 12 months. The Assistant Secretary for the Office of Postsecondary Education may change the maximum amount through a notice published in the Federal Register.

Estimated Number of Awards: 12.

Note: The Department is not bound by any estimates in this notice.

Project Period: Up to 60 months.

III. Eligibility Information

1. Eligible Applicants: This program is authorized by Title III, Part F, of the HEA. An IHE that has been designated as an eligible institution for the ANNH Programs may apply for the grants announced in this notice. At the time of application, an Alaska Native-Serving Institution must have an enrollment of undergraduate students that is at least 20 percent Alaska Native. 34 CFR 607.2(e). At the time of application, a Native Hawaiian-Serving Institution must have an enrollment of undergraduate students that is at least 10 percent Native Hawaiian. 34 CFR 607.2(f).

To qualify as an eligible institution under any Title III, Part F program, including the ANNH Programs, an institution must—

(a) Be accredited or preaccredited by a nationally recognized accrediting agency or association that the Secretary has determined to be a reliable authority as to the quality of education or training offered;

(b) Be legally authorized by the State in which it is located to be a junior college or to provide an educational program for which it awards a bachelor's degree;

(c) Be designated as an “eligible institution” by demonstrating that it: (1) has an enrollment of needy students as described in 34 CFR 607.3; and (2) has low average educational and general expenditures per full-time equivalent (FTE) undergraduate student, as described in 34 CFR 607.4.

Note: For purposes of establishing eligibility for this competition, on January 13, 2014, the Department published a notice inviting applications for eligibility designation in the Federal Register (79 FR 2161). The deadline for submission of the designation of eligibility application was March 7, 2014. Only institutions that submitted the required application and received designation through this process are eligible to submit applications for this competition.

Relationship between Title V, Title III, Part A and Part F Programs.

Note 1: Title V and Title III, Part A—A current grantee under the Developing Hispanic-Serving Institutions (HSI) Program, which is authorized under Title V of the HEA, may not receive a grant under any HEA, Title III, Part A program.

Note 2: Title III, Part A—A current grantee under the Strengthening Institutions Program (SIP), Asian American and Native American Pacific Islander-Serving Institutions (AANAPISI) Program, Native American-Serving Nontribal Institutions (NASNTI) Program, and the Alaska Native and Native Hawaiian (ANNH) Program authorized by section 317 of the HEA, may not receive a grant authorized under any other Title III, Part A program.

Note 3: Title III, Part F—A current grantee under the AANAPISI, NASNTI, Hispanic Serving Institutions-STEM and Articulation (HSI-STEM), Predominantly Black Institutions (PBI) Programs, and ANNH Program authorized by Title III, Part F, Section 371 of the HEA, may not receive a grant authorized under any other Title III, Part F program under Section 371.

Note 4: Title III, Part A; Title III, Part F—An eligible IHE may submit a Title III, Part A and a Title III, Part F grant proposal and may receive funding under both Parts if an eligible IHE is not already receiving funding under one or both Parts at the time the applications are submitted. (See Note 2 and Note 3).

Note 5: Individual Development Grant, Cooperative Arrangement Grant, and a Renovation Grant—An eligible IHE that submits an application for an individual development grant, cooperative arrangement grant, and a renovation grant may not receive both an individual development grant and a renovation grant in the same fiscal year. However, an eligible IHE may be awarded both an individual development grant and a cooperative arrangement grant or both a renovation grant and cooperative arrangement grant in the same fiscal year. We will not award a second cooperative arrangement grant to an otherwise eligible IHE for an award year for which the IHE already has a cooperative arrangement grant award under the ANNH program.

2. a. Cost Sharing or Matching: This program does not require cost sharing or matching.

b. Supplement-Not-Supplant: This program involves supplement-not-supplant funding requirements. Grant funds shall be used so that they supplement and, to the extent practical, increase the funds that would otherwise be available for the activities to be carried out under the grant and in no case supplant those funds (34 CFR 607.30(b)).

IV. Application and Submission Information

1. Address to Request Application Package: You can obtain an application via the Internet using the following address: http://Grants.gov. If you do not have access to the Internet, please contact LaTonya Brown, U.S. Department of Education, 1990 K Street NW., Room 6029, Washington, DC 20006-8513. Telephone: (202) 502-7619 or by email: latonya.brown@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. Content and Form of Application Submission: Requirements concerning the content of an application, together with the forms you must submit, are in the application package for this program.

Page Limits: The application narrative (Part III of the application) is where you, the applicant, address the selection criteria. We have established mandatory page limits for individual development grant and cooperative arrangement grant applications. You must limit the application narrative (Part III) to no more than 50 pages for individual development grants; and 70 pages for cooperative arrangement grants. This page limit requirement is separate from the five additional pages for the “Other” sections.

Note: Please include a separate heading when responding to each priority. For the purpose of determining compliance with the page limit, each page on which there are words will be counted at one full page. Applicants must use the following standards.

• A “page” is 8.5″ × 11″, on one side only, with 1” margins at the top, bottom, and both sides. Page numbers and an identifier may be outside the 1″ margin.

Double space (no more than three lines per vertical inch) all text in the application narrative, except titles, headings, footnotes, quotations, references, captions and all text in charts, tables, figures, and graphs. Charts, tables, figures, and graphs in the application narrative may be single spaced and will count toward the page limit.

• Use a font that is either 12 point or larger, and no smaller than 10 pitch (characters per inch).

• Use one of the following fonts: Times New Roman, Courier, Courier New, or Arial. An applications submitted in any other font (including Times Roman and Arial Narrow) will not be accepted.

The page limit does not apply to Part I, the Application for Federal Assistance (SF-424); the Supplemental Information for SF-424 Form required by the Department of Education; Part II, the Budget section, Budget Information Non-Construction Programs (ED 524), with the exception of the budget narrative justification which is part of the page limitations of the application narrative section Part III; Part IV, the assurances and certifications; or the one-page program abstract, the resumes, the bibliography, or the letters of support. However, the page limit does apply to all of the application narrative section (Part III), including the budget responses of the selection criteria and the “Other/CPP” section and “Other/IP” section for the priorities.

Note: Each of the Priority sections (Other/CPP and Other/IP) is limited to five pages. If you exceed the five-page limit in any one of the Priority sections, we will reject your application.

If you include any attachments or appendices not specifically requested in the application package, (such as resumes under Key Personnel) these items will be counted as part of your application narrative (Part III) for the purpose of the page limit requirement. You must include your complete response to the selection criteria in the application narrative.

Note: Sections A-C of the Budget Information-Non-Construction Programs Form (ED 524) Sections A-C are not the same as the narrative response to the Budget section of the selection criteria. The supporting narrative for the activity detail budget form lists the requested budget line items line by line.

We will reject your application if you exceed the page limit.

3. Submission Dates and Times:

Applications Available: April 14, 2014.

Deadline for Transmittal of Applications: June 2, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 1, 2014.

4. Intergovernmental Review: This program is subject to Executive Order 12372 and the regulations in 34 CFR part 79. Information about Intergovernmental Review of Federal Programs under Executive Order 12372 is in the application package for these programs.

5. Funding Restrictions: We specify limitations on allowable costs in 34 CFR 607.30. We reference additional regulations outlining funding restrictions in the Applicable Regulations section of this notice.

Applicability of Executive Order 13202. Applicants that apply for construction funds under the Title III, Part A programs, must comply with Executive Order 13202, signed by former President George W. Bush on February 17, 2001, and amended on April 6, 2001. This Executive Order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive Order does not prohibit contractors or subcontractors from voluntarily entering into these agreements. Projects funded under these programs that include construction activity will be provided a copy of this Executive Order and will be asked to certify that they will adhere to it.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and,

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under the ANNH Programs must be submitted electronically unless you qualify for an exception to this requirement in accordance with the instructions in this section.

a. Electronic Submission of Applications.

Applications for grants under the Alaska Native-Serving Institutions Program (CFDA number 84.031R) and the Native Hawaiian-Serving Institutions Program (CFDA number 84.031V) must be submitted electronically using the Government wide Grants.gov Apply site at www.grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for this competition at www.Grants.gov. You must search for the downloadable application package for this program by the CFDA number. Do not include the CFDA number's alpha suffix in your search (e.g., search for 84.031, not 84.031R).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page atwww.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system;

and

• No later than two weeks before the application deadline date (14 calendar days, or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: LaTonya Brown, U.S. Department of Education, 1990 K Street, NW., room 6029, Washington, DC 20006-8513. FAX: (202) 502-7861.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.031R or 84.031V), LBJ Basement Level I, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.031R or 84.031V), 550 12th Street, SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for these programs are in 34 CFR 607.22(a) through (g). Applicants must address each of the following selection criteria (separately for each proposed activity). The total weight of the selection criteria is 100 points; the maximum score for each criterion is noted in parentheses.

(a) Quality of the Applicant's Comprehensive Development Plan (Maximum 25 Points).

(b) Quality of Activity Objectives (Maximum 15 Points).

(c) Quality of Implementation Strategy (Maximum 20 Points).

(d) Quality of Key Personnel (Maximum 7 Points).

(e) Quality of Project Management Plan (Maximum 10 Points).

(f) Quality of Evaluation Plan (Maximum 15 Points).

(g) Budget (Maximum 8 Points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

Awards will be made in rank order according to the average score received from an evaluation performed by a panel of three non-Federal reviewers. That average score includes scores for competitive preference priorities 1 and 2.

Tie-breaker for Development Grants. In tie-breaking situations for development grants, 34 CFR 607.23(b) requires that additional points be awarded to any applicants that: (1) have an endowment fund of which the current market value, per full-time equivalent (FTE) enrolled student, is less than the average current market value of the endowment funds, per FTE enrolled student at comparable institutions that offer similar instruction; (2) have expenditures for library materials per FTE enrolled student that are less than the average expenditures per FTE enrolled student at comparable institutions that offer similar instruction; or (3) propose to carry out one or more of the following activities—

(1) Faculty development;

(2) Funds and administrative management;

(3) Development and improvement of academic programs;

(4) Acquisition of equipment for use in strengthening management and academic programs;

(5) Joint use of facilities; and

(6) Student services.

For the purpose of these funding considerations, we use 2011-2012 data.

If a tie remains after applying the tie-breaker mechanism above, priority will be given in the case of applicants for: (a) Individual development grants to applicants that have the lowest endowment values per FTE student; and (b) cooperative arrangement development grants to applicants in accordance with section 394(b) of the HEA, if the Secretary determines that the cooperative arrangement is geographically and economically sound or will benefit the applicant institution.

3. Special Conditions: Under 34 CFR 74.14, 80.12, the Secretary may impose special conditions on a grant if the applicant or grantee is not financially stable; has a history of unsatisfactory performance; has a financial or other management system that does not meet the standards in 34 CFR parts 74 or 80, as applicable; has not fulfilled the conditions of a prior grant (34 CFR 607.24); or, is otherwise not responsible.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section in this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary in 34 CFR 75.118 and 34 CFR 607.31. The Secretary may also require more frequent performance reports under 34 CFR 75.720(c). For specific requirements on reporting, please go to www.ed.gov/fund/grant/apply/appforms/appforms.html.

4. Performance Measures: The Secretary has established the following key performance measures for assessing the effectiveness of the Strengthening Alaska Native and Native Hawaiian-Serving Institutions Programs:

(a) The percentage change, over the five-year period, of the number of full-time degree-seeking undergraduates enrolled at Alaska Native and Native Hawaiian-Serving Institutions. Note that this is a long-term measure, which will be used to periodically gauge performance, beginning in FY 2014.

(b) The percentage of first-time, full-time degree-seeking undergraduate students at 4-year Alaska Native and Native Hawaiian-Serving Institutions who were in their first year of postsecondary enrollment in the previous year and are enrolled in the current year at the same Alaska Native and Native Hawaiian-Serving Institution;

(c) The percentage of first-time, full-time degree-seeking undergraduate students at 2-year Alaska Native and Native Hawaiian-Serving Institutions who were in their first year of postsecondary enrollment in the previous year and are enrolled in the current year at the same Alaska Native and Native Hawaiian-Serving Institution;

(d) The percentage of first-time, full-time degree-seeking undergraduate students enrolled at 4-year Alaska Native and Native Hawaiian-Serving Institutions graduating within six years of enrollment; and

(e) The percentage of first-time, full-time degree seeking undergraduate students enrolled at 2-year Alaska Native and Native Hawaiian-Serving Institutions graduating within three years of enrollment.

5. Continuation Awards: In making a continuation award, the Secretary may consider, under 34 CFR 607.31, the extent to which a grantee has made “substantial progress toward achieving the objectives set forth in its grant application, including, if applicable, the institution's success in institutionalizing practices and improvements developed under the grant.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contacts

FOR FURTHER INFORMATION CONTACT: LaTonya Brown, U.S. Department of Education, 1990 K Street, NW., room 6029, Washington, DC 20006-8513. Telephone: (202) 502-7619 or by email: latonya.brown@ed.gov. If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically through the advanced search feature at this site, you can limit your search to documents published by the Department.

Dated: April 9, 2014.
Lynn B. Mahaffie,
Senior Director, Policy Coordination, Development, and Accreditation Service, delegated the authority to perform the functions and duties of the Assistant Secretary for Postsecondary Education.

[FR Doc. 2014-08383 Filed 4-11-14; 8:45 am]

BILLING CODE 4000-01-P